DEPARTMENT OF HEALTH AND HUMAN SERVICES

Administration for Children and Families

Proposed Information Collection Activity; Comment Request

Proposed Projects

Title: Provision of Services in Interstate Child Support.

Enforcement: Standard Forms.

OMB No.: 0970-0085.

Description: Pub. L. 104-193, The Personal Responsibility and Work Opportunity Reconciliation Act (PRWORA) of 1996 amended 42 U.S.C. 666 to require State Child Support Enforcement (CSE) programs to enact the Uniform Interstate Family Support Act (UIFSA) into State law by January 1, 1998. To ensure standardization among the States, section 311(b) of UIFSA requires the States to use standard interstate forms, as mandated by Federal law. 45 CFR 303.7 requires CSE programs to transmit child support case information on standard interstate forms when referring cases to other States for processing. The forms, which promote uniformity and standardization, and expiring and we are taking this opportunity to make minor revisions to them to, among other things, reflect the UIFSA is now the law for all 54 CSE programs.

Respondents: States.

Annual Burden Estimates
Instrument | Number of respondents | Number of responses per respondent | Average burden hours per response | Total annual burden hours
Transmittal #1 | 54 | 10,861.20 | .42 | 246,332.02
Transmittal #2 | 54 | 2,715.30 | .08 | 11,730.01
Transmittal #3 | 54 | 543.05 | .17 | 4,985
Uniform Petition | 54 | 5430.60 | .12 | 35,190.29
Gen Testimony | 54 | 6,516.72 | .33 | 116,127.95
Affidavit/Paternity | 54 | 2715.30 | .25 | 36,656.55
Locate Data Sheet | 54 | 375 | .08 | 1,620
Notice/Control Order | 54 | 8,145.75 | .17 | 74,777.98
Registration Statement | 54 | 7,168.39 | .17 | 65,805.82
Estimate Total Annual Burden Hours |  |  |  | 593,226

In compliance with the requirements of section 3506(c)(2)(A) of the Paperwork Reduction Act of 1995, the Administration for Children and Families is soliciting public comment on the specific aspects of the information collection described above. Copies of the proposed collection of information can be obtained and comments may be forwarded by writing to the Administration for Children and Families, Office of Information Services, 370 L'Enfant Promenade, SW, Washington, DC 20447, Attn: ACF Reports Clearance Officer. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: February 3, 2000.
Bob Sargis,
Reports Clearance Officer.

[FR Doc. 00-2865 Filed 2-8-00; 8:45 am]

BILLING CODE 4184-01-M